DEPARTMENT OF THE INTERIOR

Fish and Wildlife Service

[FWS-R8-ES-2022-N066; FXES11130800000-234-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before December 27, 2022.

ADDRESSES: Document availability and comment submission: Submit requests for copies of the applications and related documents and submit any comments by one of the following methods. All requests and comments should specify the applicant name(s) and application number(s) (e.g., XXXXXX or PER0001234).

• Email: permitsR8ES@fws.gov.

• U.S. Mail: Susie Tharratt, Regional Recovery Permit Coordinator, U.S. Fish and Wildlife Service, 2800 Cottage Way, Room W-2606, Sacramento, CA 95825.

FOR FURTHER INFORMATION CONTACT: Susie Tharratt, via phone at 916-414-6561, or via email at permitsR8ES@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting, in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, City, State | Species | Location | Take activity | Permit action
97717A | Melissa Blundell, Oxnard, California | • Southwestern willow flycatcher (Empidonax traillii extimus) | CA | Play recorded vocalizations | Renew.
789255 | Robert Patton, San Diego, California | • California least tern (Sterna antillarum browni) | CA | Survey, locate and monitor nests, handle/mark eggs, capture, band, and release | Renew.
PER0057236 | Sophie Siegel, Sacramento, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers | New.
177979 | Allison Rudalevige, Garden Grove, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, collect adult vouchers, and collect branchiopod cysts | Renew.
PER0057237 | Steven Pruett, Bakersfield, CA | • Fresno kangaroo rat (Dipodomys nitratoides exilis) • Giant kangaroo rat (Dipodomys ingens) • Tipton kangaroo rat (Dipodomys nitratoides nitratoides) • Morro Bay kangaroo rat (Dipodomys heermannii morroensis) | CA | Survey, capture, handle, and release | New.
PER0057548 | Laura Burris, Sutter Creek, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense), Sonoma County and Santa Barbara County Distinct Population Segments | CA | Survey, capture, handle, release, collect adult vouchers | Renew.
PER0057261 | Dalton Stanfield, Las Vegas, Nevada | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | New.
776608 | Monk & Associates Inc., Walnut Creek, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense), Sonoma County and Santa Barbara County Distinct Population Segments • Salt marsh harvest mouse (Reithrodontomys raviventris) | CA | Survey, capture, handle, collect tissue samples, release, and deploy egg laying substrates, collect adult vouchers, and collect branchiopod cysts | Renew.
046262 | Blake Claypool, San Diego, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) | CA | Survey, capture, handle, release, and collect adult vouchers | Renew.
PER0057269 | Natalie Reeder, San Bruno, California | • San Francisco garter snake (Thamonophis sirtalis tetrataenia) | CA | Survey, capture, handle, measure, and release | New.
027422 | Brian Pittman, Rohnert Park, California | • San Francisco garter snake (Thamonophis sirtalis tetrataenia) | CA | Survey, capture, handle, measure, and release | Amend.
PER0057547 | Shelley Jaramillo, San Diego, California | • Quino checkerspot butterfly (Euphydryas editha quino [=E.e. wrighti]) | CA | Pursue | New.
95006A | Steven Chen, San Luis Obispo, California | • Fresno kangaroo rat (Dipodomys nitratoides exilis) • Giant kangaroo rat (Dipodomys ingens) • Tipton kangaroo rat (Dipodomys nitratoides nitratoides) • Morro Bay kangaroo rat (Dipodomys heermannii morroensis) • San Bernardino Merriam's kangaroo rat (Dipodomys merriami parvus) • Quino checkerspot butterfly (Euphydryas editha quino) • Delhi Sands flower-loving fly (Rhaphiomidas terminatus abdominalis) • California tiger salamander (Ambystoma californiense), Sonoma County and Santa Barbara County Distinct Population Segments | CA | Survey, pursue, capture, handle, and release | Renew.
068072 | Philippe Vergne, Boulder, Colorado | • San Bernardino Merriam's kangaroo rat (Dipodomys merriami parvus) | CA | Survey, capture, handle, and release | Renew.
068072 | Condor Country Consulting, Inc., Martinez, California | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California tiger salamander (Ambystoma californiense), Sonoma County and Santa Barbara County Distinct Population Segments | CA | Survey, capture, handle, release, collect adult vouchers, and collect branchiopod cysts | Renew.
06677C | Sadie McGarvey, Brisbane, California | • California tiger salamander (Ambystoma californiense), Sonoma County and Santa Barbara County Distinct Population Segments | CA | Survey, capture, handle, and release | Renew.
780566 | Ruben Ramirez, Oceanside, California | • Pacific pocket mouse (Perognathus longimembris pacificus) • San Bernardino Merriam's kangaroo rat (Dipodomys merriami parvus) • Arroyo toad (Anaxyrus californicus) | CA | Survey, capture, handle, take biological samples, and release | Renew.
052404 | Amy Palkovic, Marina, California | • Smith's blue butterfly (Euphilotes enoptes smithi) | CA | Capture, handle, relocate, and release | Amend.
022230 | Jeff Kidd, Laguna Hills, California | • Quino checkerspot butterfly (Euphydryas editha quino) • California least tern (Sterna antillarum browni) | CA | Pursue, survey | Renew.
796284 | David Christopher Rogers, Lawrence, Kansas | • Conservancy fairy shrimp (Branchinecta conservatio) • Longhorn fairy shrimp (Branchinecta longiantenna) • Vernal pool tadpole shrimp (Lepidurus packardi) • Riverside fairy shrimp (Streptocephalus woottoni) • San Diego fairy shrimp (Branchinecta sandiegonensis) • California freshwater shrimp (Syncaris pacifica) | CA, OR | Survey, capture, handle, release, collect adult vouchers, collect branchiopod eggs, retain in captivity and propagate for research, process soil samples, perform hatching experiments, and conduct training workshops | Renew.
57065B | Steven Morris, Huntington Beach, California | • Southwestern willow flycatcher (Empidonax traillii extimus) | CA | Play recorded vocalizations | Renew.
074955 | Susan Scatollini, San Diego, California | • Riverside fairy shrimp (Streptocephalus woottoni) • San Diego fairy shrimp (Branchinecta sandiegonensis) | CA | Survey, capture, handle, release, collect adult vouchers, and collect branchiopod cysts | Renew.
79454A | San Diego Zoo Wildlife Alliance, Santa Barbara, California | • California condor (Gymnogyps californianus) | CA | Receive, hold in captivity, handle, provide veterinarian care for, transport, and transfer | Renew.
20160B | Brennan Vettes, San Diego, California | • Southwestern willow flycatcher (Empidonax traillii extimus) | CA | Play recorded vocalizations | Renew.
181713 | Cynthia Hartley, Ventura, California | • California least tern (Sterna antillarum browni) | CA | Survey, locate and monitor nests | Renew.
59559C | McCormick Biological, Inc., Bakersfield, CA | • Buena Vista Lake ornate shrew (Sorex ornatus relictus) • Giant kangaroo rat (Dipodomys ingens) • Tipton kangaroo rat (Dipodomys nitratoides nitratoides) • California tiger salamander (Ambystoma californiense), Sonoma County and Santa Barbara County Distinct Population Segments | CA | Survey, capture, handle, take biological samples, and release | Amend.
96471A-2 | Mason Holmes, San Ramon, California | • California tiger salamander (Ambystoma californiense), Sonoma County and Santa Barbara County Distinct Population Segments | CA | Survey, capture, handle, and release | Renew.
92462A | Ryan Quilley, San Diego, California | • Light-footed Ridgway's rail (Rallus obsoletus levipes) • Yuma Ridgway's rail (Rallus obsoletus yumanensis) | CA | Play recorded vocalizations | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of be made available for public disclosure in their entirety.

Next Steps

If we decide to issue permits to any of the applicants listed in this notice, we will publish a notice in the Federal Register.

Authority

We publish this notice under section 10(c) of the Endangered Species Act of 1973, as amended (16 U.S.C. 1531 et seq.).

Peter Erickson,
Acting Regional Ecological Services Program Manager, Pacific Southwest Region, Sacramento, California.

[FR Doc. 2022-25734 Filed 11-23-22; 8:45 am]

BILLING CODE 4333-15-P